DEPARTMENT OF THE INTERIOR

Bureau of Land Management

[LLOR936000.L14400000.ET0000.17XL1109AF.HAG17-0080.WAOR068905]

Notice To Reopen Comment Period on Withdrawal Application and of Public Meeting in Methow Valley, WA

AGENCY: Bureau of Land Management, Interior.

ACTION: Notice.

SUMMARY: A Notice of Application for Withdrawal was published in the Federal Register on December 30, 2016, for approximately 340,079 acres of National Forest System lands located in the Methow Valley, Okanagan National Forest. The purpose of this Notice is to announce the date, time, and location of a public meeting to be held in connection with the withdrawal application submitted by the US Forest Service to the Secretary of the Interior and to reopen the public comment period.

DATES: The public comment period is reopened until November 13, 2018. A public meeting will be held at 6:00 p.m. on November 13, 2018, at the Red Barn, 51 North Highway 20, Winthrop, Washington.

ADDRESSES: The public may send written comments to the Bureau of Land Management, Oregon State Office, P.O. Box 2965, Portland, OR 97208-2965, or by email at blm_or_wa_withdrawals@blm.gov.

FOR FURTHER INFORMATION CONTACT: Candice Polisky, USFS Pacific Northwest Region, 503-808-2479; Jacob Childers, BLM Oregon/Washington State Office, 503-808-6225. Persons who use a telecommunications device for the deaf (TDD) may call the Federal Relay Service (FRS) at 1-800-877-8339 to contact either of the above individuals. The FRS is available 24 hours a day, 7 days a week. You will receive a reply during normal business hours.

SUPPLEMENTARY INFORMATION: The Federal Register Notice that was published on December 30, 2016 (81 FR 96481), stated that an opportunity for public meeting would be afforded in connection with the proposed withdrawal. The public will have the opportunity to verbally comment or provide written comments at the public meeting. The publication of the Federal Register Notice on December 30, 2016, was the official start of a 90-day public comment period, which ended on March 30, 2017. This Notice reopens the comment period until November 13, 2018.

Before including your address, phone number, email address, or other personally identifiable information in your comments, please be aware that your entire comment—including your personally identifiable information—may be made publicly available at any time. While you can ask the BLM in your comment to withhold your personally identifiable information from public review, we cannot guarantee that we will be able to do so.

The meeting will be held in accordance with the regulations set forth in 43 CFR part 2310.3-1.

Lenore Heppler,
Chief, Branch of Land, Mineral, and Energy Resources.

[FR Doc. 2018-22031 Filed 10-9-18; 8:45 am]

BILLING CODE 3411-15-P